DEPARTMENT OF ENERGY

Federal Energy Regulatory Commission

Combined Notice of Filings #1

Take notice that the Commission received the following electric corporate filings:

Docket Numbers: EC12-53-000.

Applicants: ITC Midwest LLC.

Description: Application of ITC Midwest LLC.

Filed Date: 12/19/11.

Accession Number: 20111219-5230.

Comments Due: 5 p.m. ET 1/9/12.

Take notice that the Commission received the following electric rate filings:

Docket Numbers: ER10-1706-003.

Applicants: California Independent System Operator Corporation.

Description: 2011-12-19 CAISO IRRP Compliance to be effective 7/3/2010.

Filed Date: 12/19/11.

Accession Number: 20111219-5153.

Comments Due: 5 p.m. ET 1/9/12.

Docket Numbers: ER11-2580-002.

Applicants: ISO New England Inc.

Description: ISO-NE Response to Staff Request for Further Information RE: Tie Benefits Compliance Filing.

Filed Date: 12/15/11.

Accession Number: 20111215-5147.

Comments Due: 5 p.m. ET 1/5/12.

Docket Numbers: ER11-2875-003.

Applicants: PJM Interconnection, L.L.C.

Description: Compliance filing per Order dated November 17, 2011 in Docket ER11-2875 to be effective 12/19/2011.

Filed Date: 12/19/11.

Accession Number: 20111219-5182.

Comments Due: 5 p.m. ET 1/9/12.

Docket Numbers: ER11-3616-002.

Applicants: California Independent System Operator Corporation.

Description: 2011-12-19 Filing in response to 2011-11-18 FERC letter to be effective 2/20/2012.

Filed Date: 12/19/11.

Accession Number: 20111219-5101.

Comments Due: 5 p.m. ET 1/9/12.

Docket Numbers: ER11-4266-002.

Applicants: Richland-Stryker Generation LLC.

Description: Notice of Non-Material Change in Status of Richland-Stryker Generation LLC, et al.

Filed Date: 12/19/11

Accession Number: 20111219-5223.

Comments Due: 5 p.m. ET 1/9/12.

Docket Numbers: ER11-4584-001.

Applicants: Burgess Capital LLC.

Description: Revised MBR 10132011 to be effective 9/21/2011.

Filed Date: 12/19/11

Accession Number: 20111219-5102.

Comments Due: 5 p.m. ET 1/9/12.

Docket Numbers: ER12-246-001.

Applicants: Entergy Arkansas, Inc.

Description: Corrected MBR Tariff to be effective 4/20/2011.

Filed Date: 12/19/11.

Accession Number: 20111219-5160.

Comments Due: 5 p.m. ET 1/9/12.

Docket Numbers: ER12-255-001.

Applicants: Entergy Power, LLC.

Description: Entergy Power LLC Corrected MBRT to be effective 4/20/2011.

Filed Date: 12/19/11.

Accession Number: 20111219-5162.

Comments Due: 5 p.m. ET 1/9/12.

Docket Numbers: ER12-256-001.

Applicants: EWO Marketing, Inc.

Description: MBRT Corrected Filing to be effective 4/20/2011.

Filed Date: 12/19/11.

Accession Number: 20111219-5163.

Comments Due: 5 p.m. ET 1/9/12.

Docket Numbers: ER12-262-001.

Applicants: Llano Estacado Wind, LLC.

Description: Corrected MBRT to be effective 4/20/2011.

Filed Date: 12/19/11.

Accession Number: 20111219-5166.

Comments Due: 5 p.m. ET 1/9/12.

Docket Numbers: ER12-263-001.

Applicants: Northern Iowa Windpower, LLC.

Description: Corrected MBRT to be effective 4/20/2011.

Filed Date: 12/19/11.

Accession Number: 20111219-5173.

Comments Due: 5 p.m. ET 1/9/12.

Docket Numbers: ER12-634-000.

Applicants: San Diego Gas & Electric Company.

Description: 2012 SDGE RS Update to Transmission Owner Tariff to be effective 1/1/2012.

Filed Date: 12/19/11.

Accession Number: 20111219-5004.

Comments Due: 5 p.m. ET 1/9/12.

Docket Numbers: ER12-635-000.

Applicants: New York State Electric & Gas Corporation.

Description: NYSEG-Bath Fairview Taps Facilities Agreement to be effective 12/20/2011.

Filed Date: 12/19/11.

Accession Number: 20111219-5099.

Comments Due: 5 p.m. ET 1/9/12.

Docket Numbers: ER12-636-000.

Applicants: PJM Interconnection, L.L.C.

Description: Revisions to the PJM Tariff, OA & RAA re the Quality Review Project to be effective 2/18/2012.

Filed Date: 12/19/11.

Accession Number: 20111219-5104.

Comments Due: 5 p.m. ET 1/9/12.

Docket Numbers: ER12-637-000.

Applicants: Calhoun Power Company, LLC.

Description: Notice of Succession to Market-Based Rate Tariff to be effective 11/22/2011.

Filed Date: 12/19/11.

Accession Number: 20111219-5150.

Comments Due: 5 p.m. ET 1/9/12.

Docket Numbers: ER12-638-000.

Applicants: Oklahoma Gas and Electric Company.

Description: AECC Filing to be effective 5/1/2011.

Filed Date: 12/19/11.

Accession Number: 20111219-5184.

Comments Due: 5 p.m. ET 1/9/12.

Docket Numbers: ER12-640-000.

Applicants: PJM Interconnection, L.L.C.

Description: Notice of Cancellation of PJM Interconnection, L.L.C.

Filed Date: 12/19/11.

Accession Number: 20111219-5229.

Comments Due: 5 p.m. ET 1/9/12.

Docket Numbers: ER12-641-000.

Applicants: Virginia Electric and Power Company.

Description: Virginia Electric and Power Company Notification of Cancellation—Second Revised Service Agreement No. 21 and FERC Electric Tariff, Second Revised Volume No.1.

Filed Date: 12/19/11.

Accession Number: 20111219-5232.

Comments Due: 5 p.m. ET 1/9/12.

Take notice that the Commission received the following land acquisition reports:

Docket Numbers: LA11-4-000.

Applicants: Niagara Generation, LLC.

Description: Land Acquisition Report (4Q 2011).

Filed Date: 12/19/11.

Accession Number: 20111219-5231.

Comments Due: 5 p.m. ET 1/9/12.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2011.
Nathaniel J. Davis, Sr.,
Deputy Secretary.

[FR Doc. 2011-33519 Filed 12-29-11; 8:45 am]

BILLING CODE 6717-01-P